DEPARTMENT OF HOMELAND SECURITY

Federal Emergency Management Agency

[Internal Agency Docket No. FEMA-1922-DR; Docket ID FEMA-2010-0002]

Montana; Amendment No. 3 to Notice of a Major Disaster Declaration

AGENCY: Federal Emergency Management Agency, DHS.

ACTION: Notice.

SUMMARY: This notice amends the notice of a major disaster for the State of Montana (FEMA-1922-DR), dated July 10, 2010, and related determinations.

DATES: Effective Date: August 13, 2010.

FOR FURTHER INFORMATION CONTACT: Peggy Miller, Disaster Assistance Directorate, Federal Emergency Management Agency, 500 C Street, SW., Washington, DC 20472, (202) 646-3886.

SUPPLEMENTARY INFORMATION: Notice is hereby given that, in a letter dated August 13, 2010, the President amended the cost-sharing arrangements concerning Federal funds provided under the authority of the Robert T. Stafford Disaster Relief and Emergency Assistance Act, 42 U.S.C. 5121 et seq. (Stafford Act), in a letter to W. Craig Fugate, Administrator, Federal Emergency Management Agency, Department of Homeland Security, as follows:

I have determined that the damage in the Chippewa Cree Tribe of the Rocky Boy's Reservation, resulting from severe storms and flooding during the period of June 15 to July 30, 2010, is of sufficient severity and magnitude that special conditions are warranted regarding the cost-sharing arrangements concerning Federal funds provided under the Robert T. Stafford Disaster Relief and Emergency Assistance Act, 42 U.S.C. 5121-5207 (the Stafford Act).

Therefore, I amend my declaration of July 10, 2010, to authorize Federal funds for Public Assistance at 100 percent Federal funding of total eligible costs, solely for the Rocky Boy's Reservation.

This adjustment to the Chippewa Cree Tribe of the Rocky Boy's Reservations cost sharing applies only to Public Assistance costs eligible for such adjustments under applicable law. The Stafford Act prohibits a similar adjustment for funds provided under the Hazard Mitigation Grant Program (Section 404). These funds will continue to be reimbursed at 75 percent of total eligible costs.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidential Declared Disaster Areas; 97.049, Presidential Declared Disaster Assistance—Disaster Housing Operations for Individuals and Households; 97.050, Presidential Declared Disaster Assistance to Individuals and Households—Other Needs; 97.036, Disaster Grants—Public Assistance (Presidentially Declared Disasters); 97.039, Hazard Mitigation Grant.)

W. Craig Fugate,
Administrator, Federal Emergency Management Agency.

[FR Doc. 2010-20769 Filed 8-20-10; 8:45 am]

BILLING CODE 9111-23-P